DEPARTMENT OF HEALTH AND HUMAN SERVICES

Centers for Disease Control and Prevention

[30Day-18-0214]

Agency Forms Undergoing Paperwork Reduction Act Review

In accordance with the Paperwork Reduction Act of 1995, the Centers for Disease Control and Prevention (CDC) has submitted the information collection request titled National Health Interview Survey (NHIS) to the Office of Management and Budget (OMB) for review and approval. CDC previously published a “Proposed Data Collection Submitted for Public Comment and Recommendations” notice on August 21, 2017. CDC received eight comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

National Health Interview Survey (NHIS) (OMB Control Number 0920-0214, Expiration Date 12/31/2019)—Revision—National Center for Health Statistics (NCHS), Centers for Disease Control and Prevention (CDC).

Background and Brief Description

Section 306 of the Public Health Service (PHS) Act (42 U.S.C.), as amended, authorizes that the Secretary of Health and Human Services (HHS), acting through NCHS, shall collect statistics on the extent and nature of illness and disability of the population of the United States.

The annual National Health Interview Survey (NHIS) is a major source of general statistics on the health of the U.S. population and has been in the field continuously since 1957. This voluntary and confidential household-based survey collects demographic and health-related information from a nationally-representative sample of households and noninstitutionalized, civilian persons throughout the country. NHIS data have long been used by government, academic, and private researchers to evaluate both general health and specific issues, such as smoking, diabetes, health care coverage, and access to health care. The survey is also a leading source of data for the Congressionally-mandated “Health US” and related publications, as well as the single most important source of statistics to track progress toward Departmental health objectives.

The 2018 NHIS questionnaire remains largely unchanged from its 2017 version, with the exception of new supplements that are being added on asthma and cancer control. These supplements replace those from 2017 on receipt of culturally and linguistically appropriate health care services, diabetes, epilepsy, cognitive disability, complementary health, hepatitis B/C screening, vision, and heart disease and stroke prevention. Continuing from 2017 are supplemental questions about access to and utilization of care and barriers to care, disability and functioning, family food security, ABCS of heart disease and stroke prevention, immunizations, smokeless tobacco and e-cigarettes, and children's mental health.

In addition, in the last quarter of 2018, a portion of the regular 2018 NHIS sample will be used to carry out a dress rehearsal and systems test of the redesigned NHIS questionnaire that is scheduled for launch in January 2019. The redesigned questionnaire revises the NHIS both in terms of content and structure in order to (1) improve the measurement of covered health topics, (2) reduce respondent burden by shortening the length of the questionnaire and seamlessly integrating supplements, (3) harmonize overlapping content with other federal health surveys, (4) establish a long-term structure of ongoing and periodic topics, and (5) incorporate advances in survey methodology and measurement.

As in past years, and in accordance with the 1995 initiative to increase the integration of surveys within the DHHS, respondents to the 2018 NHIS will serve as the sampling frame for the Medical Expenditure Panel Survey. In addition, a subsample of NHIS respondents and/or members of commercial survey panels may be identified to participate in cognitive testing and methodological projects, using web and/or mail survey tools, that will inform the development of new rotating and supplemental content.

There is no cost to the respondents other than their time. Clearance is sought for three years, to collect data for 2018-2020, with an estimated annualized burden of 47,735 hours.

Estimated Annualized Burden Hours
Type of respondents | Form name | Number of respondents | Number of responses per respondent | Average burden per response (in hours)
Adult Household Member | Main Household Composition and Family Core | 39,375 | 1 | 23/60
Sample Adult | Main Adult Core | 31,500 | 1 | 15/60
Adult Family Member | Main Child Core | 12,250 | 1 | 10/60
Adult Family Member | Main Supplements | 39,375 | 1 | 20/60
Adult Household Member | Redesigned Household Roster | 5,625 | 1 | 5/60
Sample Adult | Redesigned Adult Questionnaire | 4,500 | 1 | 39/60
Adult Family Member | Redesigned Child Questionnaire | 1,750 | 1 | 27/60
Adult Family Member | Methodological Projects | 15,000 | 1 | 20/60
Adult Family Member | Main Reinterview Survey | 4,375 | 1 | 5/60
Adult Family Member | Redesigned Reinterview Survey | 625 | 1 | 5/60

Leroy A. Richardson,
Chief, Information Collection Review Office, Office of Scientific Integrity, Office of the Associate Director for Science, Office of the Director, Centers for Disease Control and Prevention.

[FR Doc. 2017-25739 Filed 11-28-17; 8:45 am]

BILLING CODE 4163-18-P